DEPARTMENT OF THE TREASURY

Public Meeting of the President's Advisory Panel on Federal Tax Reform

AGENCY: Department of the Treasury.

ACTION: Notice of meeting.

SUMMARY: This notice advises all interested persons of a public meeting of the President's Advisory Panel on Federal Tax Reform.

DATES: This meeting will be held on Thursday, October 27, 2005. The meeting will be held via teleconference and will begin at 11 a.m. eastern daylight time. Interested parties will be able to listen to the meeting. Call-in information will be posted on the Panel's Web site, http://www.taxreformpanel.gov, at a later date.

FOR FURTHER INFORMATION CONTACT: The Panel staff at (202) 927-2TAX (927-2829) (not a toll-free call) or e-mail info@taxreformpanel.gov (please do not send comments to this box). Additional information is available at http://www.taxreformpanel.gov.

SUPPLEMENTARY INFORMATION:

Purpose: The October 27 meeting is the thirteenth meeting of the Advisory Panel. At this meeting, the Panel will continue to discuss issues associated with reform of the tax code. There is a possibility that this meeting will not take place as scheduled. Please check the Panel's Web site for updated information.

Comments: Interested parties are invited to call into the teleconference to listen to the meeting; however, no public comments will be heard at the meeting. Any written comments with respect to this meeting may be mailed to The President's Advisory Panel on Federal Tax Reform, 1440 New York Avenue, NW., Suite 2100, Washington, DC 20220. All written comments will be made available to the public.

Records: Records are being kept of Advisory Panel proceedings and will be available at the Internal Revenue Service's FOIA Reading Room at 1111 Constitution Avenue, NW., Room 1621, Washington, DC 20024. The Reading Room is open to the public from 9 a.m. to 4 p.m., Monday through Friday except holidays. The public entrance to the reading room is on Pennsylvania Avenue between 10th and 12th streets. The phone number is (202) 622-5164 (not a toll-free number). Advisory Panel documents, including meeting announcements, agendas, and minutes, will also be available on http://www.taxreformpanel.gov.

Dated: October 7, 2005.
Mark S. Kaizen,
Designated Federal Officer.

[FR Doc. 05-20513 Filed 10-11-05; 8:45 am]

BILLING CODE 4811-33-P